EXPORT-IMPORT BANK OF THE UNITED STATES

Notice of Open Special Meeting of the Renewable Energy Exports Advisory Committee of the Export-Import Bank of the United States (Ex-Im Bank)

SUMMARY: The Renewable Energy Exports Advisory Committee was established by the Board of Directors at Ex-Im Bank to assist the Bank in meeting its objective of supporting U.S. exporters in renewable energy industries. In addition, the goal is to seek advice from the private sector about best practices when addressing renewable energy exports.

Time and Place: Monday, September 30, 2002, at 9 a.m. to 2 p.m. The meeting will be held at Ex-Im Bank in Room 1143, 811 Vermont Avenue, NW, Washington, DC 20571.

Agenda: Agenda items include presentations from panels composed of experts from Congress, the U.S. Government, Renewable Energy Industry, and interested parties.

Public Participation: The meeting will be open to public participation. Members of the public may also file written statement(s) on how Ex-Im Bank can increase its support for renewable energy exports no later than September 20. Please send comments to the attention of Nichole Westin. If any person wishes auxiliary aids (such as a sign language interpreter) or other special accommodations, please contact, prior to September 20, 2002, Nichole Westin, Room 1257, 811 Vermont Avenue, NW, Washington, DC 20571, Voice: (202) 565-3542, Fax: (202) 565-3548 or TDD (202) 565-3377.

FURTHER INFORMATION: For further information, contact Nichole Westin, Room 1257, 811 Vermont Ave., NW., Washington, DC 20571, (202) 565-3542.

Peter Saba,
General Counsel.

[FR Doc. 02-21701 Filed 8-26-02; 8:45 am]

BILLING CODE 6690-01-M